DEPARTMENT OF COMMERCE

National Oceanic and Atmospheric Administration

Proposed Information Collection; Comment Request; National Oceanic and Atmospheric Administration, Office of Education, Educational Partnership Program (EPP) and Ernest F. Hollings Undergraduate Scholarship Program

AGENCY: National Oceanic and Atmospheric Administration (NOAA), Commerce.

ACTION: Notice.

SUMMARY: The Department of Commerce, as part of its continuing effort to reduce paperwork and respondent burden, invites the general public and other Federal agencies to comment on proposed and/or continuing information collections, as required by the Paperwork Reduction Act of 1995.

DATES: To ensure consideration, written or on-line comments must be submitted on or before February 10, 2020.

ADDRESSES: Direct all written comments to Adrienne Thomas, PRA Officer, NOAA, 151 Patton Avenue, Room 159, Asheville, NC 28801 (or via the internet at PRAcomments@doc.gov). Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Natasha White, 301-628-2906 or Natasha.White@noaa.gov.

SUPPLEMENTARY INFORMATION:

I. Abstract

This request is for extension of a current information collection.

The Administrator of the National Oceanic and Atmospheric Administration (NOAA) is authorized by section 4002 of the America COMPETES Act, Public Law 110-69, to establish and administer a Graduate Sciences Program and two undergraduate scholarship programs to enhance understanding of ocean, coastal, Great Lakes, and atmospheric science and stewardship by the general public and other coastal stakeholders, including underrepresented groups in ocean and atmospheric science and policy careers. In addition, NOAA's Administrator is authorized by section 214 of the Consolidated Appropriations Act, 2005, Public Law 108-447, to establish and administer the Ernest F. Hollings Undergraduate Scholarship Program to support undergraduate studies in oceanic and atmospheric science, research, technology, and education that support NOAA's mission and programs.

The National Oceanic and Atmospheric Administration (NOAA) Office of Education (OEd) collects, evaluates, and assesses student data and information for the purpose of selecting successful candidates, generating internal NOAA reports, and articles to demonstrate the success of its program.

The purpose of the OEd Educational Partnership Program (EPP) with Minority Serving Institutions is to educate, train and graduate students in NOAA-mission sciences. OEd EPP is strongly committed to broadening the participation of Minority Serving Institutions (MSIs) such as Historically Black Colleges and Universities, Hispanic Serving Institutions, Indian Tribally Controlled Colleges and Universities, Alaska Native-Serving Institutions, and Native Hawaiian-Serving Institutions. NOAA's OEd EPP/MSI partnership is comprised of four program components: the Undergraduate Scholarship Program (USP); the Graduate Sciences Program (GSP); the Environmental Entrepreneurship Program (EEP); and the Cooperative Science Center (CSC).

The OEd requires applicants to NOAA's Undergraduate Scholarship Programs to complete an application in order to be considered. The application package requires two faculty and/or academic advisors to complete a NOAA student scholar reference form in support of the scholarship application. The Dr. Nancy Foster Scholarship Program and the NMFS Recruiting, Training and Research Program also collect student data for their programs and are also covered by this notice. Undergraduate scholarship recipients are required to complete a Student Scholarship Training Record to track their time, attendance, and accomplishments during their internships. NOAA OEd student scholar alumni are also requested to provide information to NOAA for internal tracking purposes. This information informs NOAA whether NOAA-funded students pursue and complete post-graduate NOAA-related science degrees, are employed by NOAA or a NOAA contractor, or in fields related to NOAA's mission. NOAA OEd grant recipients are required to update the student tracker database with the required student information in order to assess compliance with NOAA OEd's performance measures.

The collected data supports NOAA OEd's program performance measures. To measure the impact of OEd programs, the data collected are compared to the available data in the national education databases (e.g., National Science Foundation and National Center for Education Statistics) and NOAA workforce management database. Furthermore, the student data collection identifies degree pipeline areas (BS, MS, or Ph.D.) and where OEd and its academic partners may target recruitment for its' NOAA-related science educational and training programs. NOAA scholarship programs produce a pool of qualified candidates that may be hired by NOAA and help to sustain a world-class NOAA organization.

II. Method of Collection

Electronic applications and electronic forms are required from participants, and the primary methods of submittal are email and internet transmission of electronic forms. Less than 1% of the application and reference forms may be mailed.

III. Data

OMB Control Number: 0648-0568.

Form Number(s): None.

Type of Review: Regular submission (extension of a currently approved collection).

Affected Public: Individuals or households; business or other for-profit; not-for-profit institutions; State, Local or Tribal Government.

Estimated Number of Respondents: 2,358.

Estimated Time per Response: Student tracker database form, 28 hours; undergraduate application form, 12 hours; reference forms, 1 hour; student scholarship training record, 0.5 hours; alumni update form, 6 minutes.

Estimated Total Annual Burden Hours: 11,004.

Estimated Total Annual Cost to Public: $50 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Sheleen Dumas,
Department PRA Clearance Officer, Office of the Chief Information Officer, Commerce Department.

[FR Doc. 2019-26777 Filed 12-11-19; 8:45 am]

BILLING CODE 3510-12-P